ENVIRONMENTAL PROTECTION AGENCY

[FRL-7664-3]

Proposed Prospective Purchaser Agreement and Covenant Not To Sue Under the Comprehensive Environmental Response, Compensation, and Liability Act of 1980 Regarding the General Color Company Superfund Site, Camden, New Jersey

AGENCY: Environmental Protection Agency.

ACTION: Notice of proposed prospective purchaser agreement and opportunity for public comment.

SUMMARY: The United States Environmental Protection Agency (“EPA”) is proposing to enter into an administrative settlement to resolve claims under the Comprehensive Environmental Response, Compensation, and Liability Act of 1980, as amended (“CERCLA”), 42 U.S.C. 9601 et seq. Notice is being published to inform the public of the proposed settlement and of the opportunity to comment. This settlement is intended to resolve a prospective purchaser's liability for response costs incurred by EPA at the General Color Company Superfund Site in Camden, New Jersey.

DATES: Comments must be provided on or before June 18, 2004.

ADDRESSES: Comments should be addressed to the U.S. Environmental Protection Agency, Office of Regional Counsel, 290 Broadway-17th Floor, New York, New York 10007-1866 and should refer to: In the Matter of the General Color Company Superfund Site, U.S. EPA Region II Docket No. CERCLA-02-2004-2013.

FOR FURTHER INFORMATION CONTACT: U.S. Environmental Protection Agency, Office of Regional Counsel, 290 Broadway-17th Floor, New York, New York 10007-1866, Attention: Alexandra Ince, Esq. (212) 637-3144.

SUPPLEMENTARY INFORMATION: In accordance with EPA guidance, notice is hereby given of a proposed administrative settlement concerning the General Color Company Superfund Site, located in the City of Camden, Camden County, New Jersey. CERCLA provides EPA the authority to settle certain claims for response costs incurred by the United States with the approval of the Attorney General of the United States.

The proposed settlement provides that Westfield Acres Urban Renewal Associates II, LP, a private developer which plans on redeveloping the General Color Company Superfund Site, will perform work at the Site in return for a covenant not to sue under sections 106 or 107 of CERCLA from the United States. EPA is also waiving any liens it may have at the General Color Company Superfund Site under sections 107(l) and 107(r) of CERCLA.

A copy of the proposed administrative settlement agreement and covenant not to sue, as well as background information relating to the settlement, may be obtained in person or by mail from EPA's Region II Office of Regional Counsel, 290 Broadway-17th Floor, New York, New York 10007-1866.

Dated: May 6, 2004.
Anthony Cancro,
Acting Deputy Regional Administrator, Region 2.

[FR Doc. 04-11344 Filed 5-18-04; 8:45 am]

BILLING CODE 6560-50-P